DEPARTMENT OF ENERGY

Federal Energy Regulatory Commission

[Project No. 13022-003]

Barren River Lake Hydro LLC; Notice of Application Tendered for Filing With the Commission, Soliciting Additional Study Requests, and Establishing Procedural Schedule for Licensing and a Deadline for Submission of Final Amendments

Take notice that the following hydroelectric application has been filed with the Commission and is available for public inspection.

a. Type of Application: Original Major License.

b. Project No.: 13022-003.

c. Date Filed: December 9, 2011.

d. Applicant: Barren River Lake Hydro LLC (Barren Hydro).

e. Name of Project: Barren River Lake Dam Hydroelectric Project.

f. Location: On the Barren River, in Allen County, Kentucky. The project would occupy 18.65 acres of land, the majority of which are United States lands administered by the U.S. Army Corps of Engineers (Corps).

g. Filed Pursuant to: Federal Power Act 16 U.S.C. 791 (a)-825(r).

h. Applicant Contact: Brent Smith, Symbiotics LLC, 371 Upper Terrace, Suite 2, Bend, Oregon 97702; (541) 330-8779; email—brent.smith@symbioticsenergy.com.

i. FERC Contact: Allan Creamer, (202) 502-8365 or via email at Allan.Creamer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 7, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1 (866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

m. This application is not ready for environmental analysis at this time.

n. The proposed project would utilize the existing Corps' Barren River Lake Dam and would consist of the following new facilities: (1) Lining the existing outlet structure with a 280-foot-long, 14-foot-diameter steel penstock; (2) a new gate and bifurcation where the penstock exits the dam; (3) a powerhouse containing one vertical Kaplan turbine unit with a total capacity of 6.8 megawatts (MW); (4) a 110-foot-long, 80-foot-wide tailrace; (5) a proposed 0.83-mile-long, 12.5 kilovolt (kV) transmission line; (6) a switchyard; and (7) appurtenant facilities. The proposed project would have an average annual generation of 24.2 gigawatt-hours (GWh), and operate run-of-river utilizing surplus water from the Barren River Lake Dam, as directed by the Corps.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following Hydro Licensing Schedule. Revisions to the schedule will be made as appropriate.

Issue Deficiency Letter | March 2012.
Issue Acceptance letter | July 2012.
Issue Scoping Document 1 for comments | August 2012.
Request Additional Information (if necessary) | October 2012.
Issue Scoping Document 2 (if necessary) | October 2012.
Notice of application is ready for environmental analysis | February 2013.
Notice of the availability of the draft EA | October 2013.
Notice of the availability of the final EA | April 2014.

Final amendments to the application must be filed with the Commission no later than 30 days from the issuance date of the notice of ready for environmental analysis.

Dated: December 23, 2011.
Kimberly D. Bose,
Secretary.

[FR Doc. 2011-33638 Filed 12-30-11; 8:45 am]

BILLING CODE 6717-01-P